DEPARTMENT OF TRANSPORTATION

Federal Railroad Administration

[Docket Number FRA-2013-0017]

Notice of Application for Approval of Discontinuance or Modification of a Railroad Signal System

In accordance with Part 235 of Title 49 Code of Federal Regulations and 49 U.S.C. 20502(a), this document provides the public notice that by a document dated February 6, 2013, Norfolk Southern Corporation (NS) has petitioned the Federal Railroad Administration (FRA) seeking approval for the discontinuance or modification of a signal system. FRA assigned the petition Docket Number FRA-2013-0017.

Applicant: Norfolk Southern Corporation, Mr. Brian Sykes, Chief Engineer, C&S Engineering, 1200 Peachtree Street NE., Atlanta, Georgia 30309.

NS seeks approval of the proposed temporary discontinuance of the signal system at the Randolph Street Control Point on the Virginia Division in Roanoke, VA, during a major track and signal rationalization project. The Randolph Street Control Point uses Microlok for the control of switches and signals. This Control Point connects NS's H-Line, N-Line, and W-Line with its Roanoke Yard and locations to the west.

NS will be required to temporarily discontinue the use of the signal system while performing a major part of the track work. The Randolph Street Tower, where the Microlok system is currently housed, will be removed to make room for a new track through that area. NS estimates the discontinuance of signals for 90 to 120 days at the Randolph Street Control Point during its construction efforts. During that period, trains will operate through the area at restricted speed on permission from the dispatcher, as well as a switch tender on the ground. NS seeks to have all of the work completed with its signals tested and placed back in service in the November/December 2013 timeframe. NS seeks to make the proposed changes to replace the older Microlok system with newer technology solid-state equipment, to increase train speeds through the area, and to facilitate the installation of Positive Train Control.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue, SE., Room W12-140, Washington, DC 20590, between 9 a.m. and 5 p.m., Monday through Friday, except Federal holidays.

Communications received by April 22, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on March 4, 2013.
Robert C. Lauby,
Deputy Associate Administrator for Regulatory and Legislative Operations.

[FR Doc. 2013-05319 Filed 3-6-13; 8:45 am]

BILLING CODE 4910-06-P